DEPARTMENT OF HOUSING AND URBAN DEVELOPMENT

[Docket No. FR-6210-N-03]

Notice of Regulatory Waiver Requests Granted for the Third Quarter of Calendar Year 2020

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2020 and ending on September 30, 2020, including those made pursuant to the CARES Act.

FOR FURTHER INFORMATION CONTACT: For general information about this notice, contact Aaron Santa Anna, Associate General Counsel for Legislation and Regulations, Department of Housing and Urban Development, 451 Seventh Street SW, Room 10282, Washington, DC 20410-0500, telephone 202-708-5300 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2020.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2020 through September 30, 2020. For ease of reference, the waivers granted by HUD are listed by HUD program office (for example, the Office of Community Planning and Development, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Additionally, this notice includes waivers made pursuant to the Coronavirus Aid, Relief and Economic Security Act (CARES Act), not previously published in the Federal Register. These waivers are listed separately from other individual waivers within each program office grouping, as CARES Act waivers broadly covered all affected parties rather than individual, case-by-case situations. The lists include all Memoranda and Notices issued regarding broad CARES Act waivers provided by HUD since the enactment of the Act on March 27, 2020. In addition, the lists provide a short, two- or three-line description of each memo or notice, identifying the specific CARES Act authority and purpose of the waivers addressed therein.

Should HUD receive additional information about waivers granted during the period covered by this report (the third quarter of calendar year 2020) before the next report is published (the fourth quarter of calendar year 2020), HUD will include any additional waivers granted for the third quarter in the next report.

Accordingly, information about approved waiver requests pertaining to HUD regulations is provided in the Appendix that follows this notice.

Damon Y. Smith,
Principal Deputy General Counsel.

Appendix

Listing of Waivers of Regulatory Requirements Granted by Offices of the Department of Housing and Urban Development July 1, 2020 Through September 30, 2020

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.252(d)(1) Utility Allowance Requirements.

Project/Activity: The City of Los Angeles, California, requested a waiver of 24 CFR 92.252(d)(1) to allow use of the utility allowance established by local public housing agency (PHA) for a HOME-assisted project—King 1101 Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: July 20, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development. Department of Housing and Urban Development, 451 Seventh Street SW, Room 7160, Washington, DC 20410, telephone (202) 402-4606.

• Regulation: 24 CFR 92.252(d)(1) Utility Allowance Requirements.

Project/Activity: The City of Oxnard, California, and the County of San Luis Obispo, California, requested a waiver of 24 CFR 92.252(d)(1) to allow use of the utility allowance established by the local public housing agency (PHA) for three HOME-assisted projects—Ormond Beach Villas, Bishop Street Studios, and Rolling Hills Apartment II.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: July 20, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 402-4606.

• Regulation: 24 CFR 92.252(d)(1) Utility Allowance Requirement.

Project/Activity: Contra Costa County, San Mateo County, and Los Angeles County, California, requested a waiver of 24 CFR 92.252(d)(1) to allow use of the utility allowance established by the local public housing agency (PHA) for three HOME-assisted projects—Blue Hibiscus Apartments, Bay Meadows, and Virginia Lane Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: September 22, 2020.

Reason Waived: The HOME requirements for establishing utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 402-4606.

• Regulation: 24 CFR 92.252(d)(1) Utility Allowance Requirements.

Project/Activity: The Georgia Department of Community Affairs requested a waiver of 24 CFR 92.252(d)(1) on behalf of the Georgia Housing Finance Agency to allow use of the utility allowance established by the local public housing agency (PHA) for Hearthstone Landing Apartments, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: September 22, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 402-4606.

• Regulation: 24 CFR 92.504(a) Participating Jurisdiction Responsibilities and Written Agreements.

Project/Activity: The State of Colorado requested a waiver of 24 CFR 92.504(a) to permit it to amend the written agreement for the Oakwood Apartments, a HOME-assisted project, to change the unit mix and number of HOME units specified at the time of project commitment.

Nature of Requirement: The regulation at 24 CFR 92.504(a) requires that a participating jurisdiction ensure that HOME funds are used in accordance with all program requirements and written agreements.

Granted By: John Gibbs, Acting Assistant Secretary for Community Planning and Development.

Date Granted: August 13, 2020.

Reason Waived: The waiver permits the State to change the unit mix and number of HOME units specified in the written agreement by eliminating one two-bedroom HOME unit and replacing it with two one-bedroom HOME units. Without this waiver, the State would not be able to demolish one residential building containing one HOME-assisted unit and construct additional affordable housing units on the site. The demolition of one residential building is necessary for the new construction project due to zoning requirements for the site. The State is aware that the demolition triggers the one-for-one replacement and other requirements of Section 104(d) of the Housing and Community Development Act and that the Uniform Relocation Act requirements also apply. The State will amend the written agreement and restrictive covenants for the HOME project to reflect the new unit mix, however, the existing 30-year period of affordability for the project will remain intact and the State will maintain HOME tenant protections for the current tenants of HOME-assisted units. This waiver will permit the State to expand the supply of affordable rental housing in Colorado by creating a net of 45 additional rental units on the site and increasing the total number of HOME-assisted units.

Contact: Virginia Sardone, Director, Office of Affordable Housing Programs, Office of Community Planning and Development, Department of Housing and Urban Development, 451 Seventh Street SW, Room 7160, Washington, DC 20410, telephone (202) 402-4606.

• Regulation: 24 CFR 576.2, definition of “homeless,” (l)(iii).

Project/Activity: An individual may qualify as homeless under paragraph (1)(iii) the homeless definition in 24 CFR 576.2 so long as he or she is exiting an institution where they resided for 120 days or less and resided in an emergency shelter or place not meant for human habitation immediately before entering that institution. This waiver is in effect until March 31, 2021.

Nature of Requirement: An individual who is exiting an institution where he or she resided for 90 days or less and who resided in an emergency shelter or place not meant for human habitation immediately before entering that institution are considered homeless per 24 CFR 576.2, definition of “homeless.”

Granted By: John Gibbs, Acting Assistant Secretary for Community Planning and Development.

Date Granted: September 30, 2020.

Reason Waived: Recipients are reporting that program participants are residing in institutions for longer periods of time as a result of COVID-19 (e.g., longer time in jail due to a postponed court dates due to court closings or courts operating at reduced capacity and longer hospital stays when infected with COVID-19). Allowing someone who was residing in an emergency shelter or place not meant for human habitation prior to entering the institution to maintain their homeless status while residing in an institution for longer than 90 days is necessary to prevent the spread of COVID-19 by expanding housing options for people who were experiencing homelessness and institutionalized for longer than traditionally required due to COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of “homeless,” (l)(iii).

Project/Activity: An individual may qualify as homeless under paragraph (1)(iii) the homeless definition in 24 CFR 578.3 so long as he or she is exiting an institution where they resided for 120 days or less and resided in an emergency shelter or place not meant for human habitation immediately before entering that institution.

Nature of Requirement: An individual who is exiting an institution where he or she resided for 90 days or less and who resided in an emergency shelter or place not meant for human habitation immediately before entering that institution are considered homeless per 24 CFR 578.3, definition of “homeless.”

Granted By: John Gibbs, Acting Assistant Secretary for Community Planning and Development.

Date Granted: September 30, 2020.

Reason Waived: Recipients are reporting that program participants are residing in institutions for longer periods of time as a result of COVID-19 (e.g., longer time in jail due to a postponed court dates due to court closings or courts operating at reduced capacity and longer hospital stays when infected with COVID-19). Allowing someone who was residing in an emergency shelter or place not meant for human habitation prior to entering the institution to maintain their homeless status while residing in an institution for longer than 90 days is necessary to prevent the spread of COVID-19 by expanding housing options for people who were experiencing homelessness and institutionalized for longer than traditionally required due to COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of permanent housing, 24 CFR 578.51(1)(1).

Project/Activity: The one-year lease requirement is waived for leases executed between the date of this memorandum and December 31, 2020, so long as the initial term of all leases is at least one month.

Nature of Requirement: Program participants residing in PSH must be the tenant on a lease for a term of at least one year that is renewable and terminable for cause.

Granted By: John Gibbs, Acting Assistant Secretary for Community Planning and Development.

Date Granted: September 30, 2020.

Reason Waived: HUD originally waived this requirement for 6-months on March 31, 2020 to help recipients more quickly identify permanent housing for individuals and families experiencing homelessness, which is helpful in preventing the spread of COVID-19. Extending this waiver is necessary because recipients continue to need to help program participants identify housing quickly to help prevent the spread of COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.7(a)(8).

Project/Activity: 24 CFR 578.7(a)(8) is waived to the extent it is necessary to lift the requirement in Section 11.B.15 of the Notice Establishing Additional Requirements for a Continuum of Care Centralized or Coordinated Assessment System for 1-year.

Nature of Requirement: 24 CFR 578.7(a)(8) requires CoCs to comply with any requirements established by HUD by Notice regarding the centralized or coordinated assessment system. One Notice provision states the CoC must solicit feedback at least annually from participating projects and households that participated in coordinated entry to evaluate the quality and effectiveness of the entire coordinated entry experience.

Granted By: John Gibbs, Acting Assistant Secretary for Community Planning and Development.

Date Granted: September 30, 2020.

Reason Waived: CoCs are reporting limited staff capacity as staff members are home for a variety of reasons related to COVID-19 (e.g., quarantining, children home from school, working elsewhere in the community to manage the COVID-19 response). Waiving the annual coordinated entry planning and stakeholder consultation process as provided below will allow recipients to focus their limited staff capacity on activities related to preventing the spread of COVID19 and helping program participants remain housed during the subsequent economic downturn.

Contact: Norm Suchar, Director, Office of Special Needs Assistance Programs, Office of Community Planning and Development, Department of Housing and Urban Development, 451 Seventh Street SW, Room 7262, Washington, DC 20410, telephone (202) 708-4300.

• Regulation: 24 CFR 578.33(c).

Project/Activity: The requirement that the renewal grant amount be based on the budget line items in the final year of the grant being renewed is further waived for all projects that amend their grant agreement between October 1, 2020 and December 31, 2020 to move funds between budget line items in a project in response to the COVID-19 pandemic. Recipients may then apply in the next FY CoC Program funding cycle based on the budget line items in the grants before they were amended.

Nature of Requirement: 24 CFR 578.33(c) requires that budget line item amounts a recipient is awarded for renewal in the CoC Program Competition will be based on the amounts in the final year of the prior funding period of the project.

Granted By: John Gibbs, Acting Assistant Secretary for Community Planning and Development.

Date Granted: September 30, 2020.

Reason Waived: HUD originally waived this requirement for grant agreement amendments signed between March 31, 2020 and October 1, 2020 to allow recipients to move funds between budget line items in a project in response to the COVID-19 pandemic and still apply for renewal in the next FY CoC Program funding cycle based on the budget line items in the grants before they were amended. Recipients continue to report needing to shift budget line items to respond to the COVID-19 pandemic (e.g., providing different supportive service necessitated by the pandemic or serving fewer people because the layout of the housing does not meet local social distancing recommendations) without changing the original design of the project when it is not operating in a public health crisis and can resume normal operations.

Contact: Norm Suchar, Director, Office of Special Needs Assistance Programs, Office of Community Planning and Development, Department of Housing and Urban Development, 451 Seventh Street SW, Room 7262, Washington, DC 20410, telephone (202) 708-4300.

• Regulation: 24 CFR 578.37(a)(l)(ii)(F).

Project/Activity: The requirement in 24 CFR 578.37(a)(l)(ii)(F) that projects require program participants to meet with case managers not less than once per month is waived for all permanent housing-rapid re-housing projects from the date of this memorandum until December 31, 2020.

Nature of Requirement: Recipients must require program participants of permanent housing -rapid re-housing projects to meet with a case manager at least monthly.

Granted By: John Gibbs, Acting Assistant Secretary for Community Planning and Development.

Date Granted: September 30, 2020.

Reason Waived: HUD originally waived this requirement for 2-months on March 31, 2020 and subsequently for 3-month on May 22, 2020. Recipients are continuing to report limited staff capacity as staff members are home for a variety of reasons related to COVID-19 (e.g., quarantining, children home from school, working elsewhere in the community to manage the COVID-19 response). In addition, not all program participants have capacity to meet via phone or internet. Waiving the monthly case management requirement as specified below will allow recipients to provide case management on an as needed basis and reduce the possible spread and harm of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.49(b)(2).

Project/Activity: The FMR restriction continues to be waived for any lease executed by a recipient or subrecipient to provide transitional or permanent supportive housing from the date of this memorandum until December 31, 2020. The affected recipient or subrecipient must still ensure that rent paid for individual units that are leased with leasing dollars meet the rent reasonableness standard in 24 CFR 578.49(b)(2).

Nature of Requirement: Rent payments for individual units with leasing dollars may not exceed Fair Market Rent (FMR).

Granted By: John Gibbs, Acting Assistant Secretary for Community Planning and Development.

Date Granted: September 30, 2020.

Reason Waived: HUD originally waived this requirement for 6-months on March 31, 2020. Extending this waiver on the limit on using grant leasing funds to pay above FMR for individual units, but not greater than reasonable rent will assist recipients in locating additional units to house individuals and families experiencing homelessness and reduce the spread and harm of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.75(b)(l).

Project/Activity: NY-603-Long Island Continuum of Care (CoC) reallocated 11 Permanent Supportive Housing (PSH) projects in the FY 2018 CoC Program Competition, which affects almost 300 program participants—many with disabilities, who face returning to homelessness. The interim rule requires certain documentation requirements and imposes eligibility requirements which severely limits potential available housing options for program participants to transfer into other CoC Program-funded projects.

Nature of Requirement: 24 CFR 278.75(b)(1) requires that recipients or subrecipients physically inspect each unit to assure that it meets HQS before any assistance will be provided for that unit on behalf of a program participant.

Granted By: John Gibbs, Acting Assistant Secretary for Community Planning and Development.

Date Granted: September 30, 2020.

Reason Waived: On March 31, 2020, HUD waived the physical inspection requirement at 24 CFR 578.75(b)(l) for 6-months so long as recipients or subrecipients were able to visually inspect the unit using technology to ensure the unit met HQS before any assistance was provided and recipients or subrecipients had written policies in place to physically reinspect the unit within 3 months after the health officials determined special measures to prevent the spread of COVID-19 are no longer necessary. However, this standard still relies on program participants or landlords having the technology to carry out this virtual inspection. Waiving the initial inspection requirement at 24 CFR 578.75(b)(l) as further specified below will allow recipients to move people from the streets and shelters into housing more quickly, which enables social distancing, and helps prevent the spread of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.75(c) and 24 CFR 982.401(d)(2)(ii) as required by 24 CFR 578.75(b).

Project/Activity: The requirement that the each unit assisted with CoC Program funds or YHDP funds have at least one bedroom or living/sleeping room for each two persons is waived for recipients providing Permanent Housing-Rapid Rehousing assistance for leases and occupancy agreements executed by recipients and subrecipients between the date of this memorandum and December 31, 2020 and extending only until the later of (1) the end of the initial term of the lease or occupancy agreement; or (2) December 31, 2020.

Nature of Requirement: 24 CFR 578.75(c), suitable dwelling size, and 24 CFR 982.401(d)(2)(ii) as required by 24 CFR 578.75(b), Housing Quality Standards, requires units funded with CoC Program funds to have at least one bedroom or living/sleeping room for each two persons.

Granted By: John Gibbs, Acting Assistant Secretary for Community Planning and Development.

Date Granted: September 30, 2020.

Reason Waived: Households experiencing homelessness are often unable to afford the limited supply of affordable housing in many jurisdictions across the country and this has been made even more challenging due to the economic impact of COVID-19. Additionally, moving to housing instead of congregate shelter reduces the spread of COVID-19. Waiving this requirement will allow households to obtain permanent housing that is affordable and that they assess is adequate. Consistent with the Executive Order on Fighting the Spread of COVID-19 by Providing Assistance to Renters and Homeowners, grantees should balance use of this waiver with the recommendations of public health officials to limit community spread and reduce risks to high-risk populations.

Contact: Norm Suchar, Director, Office of Special Needs Assistance Programs, Office of Community Planning and Development, Department of Housing and Urban Development, 451 Seventh Street SW, Room 7262, Washington, DC 20410, telephone (202) 708-4300.

• Regulation: 24 CFR 578.103(a) and 24 CFR 578.103(a)(4)(i)(B).

Project/Activity: The requirement that intake staff-recorded observation of disability be confirmed and accompanied by other evidence no later than 45 days from the application for assistance documentation requirement is waived from publication of this waiver until public health officials determine no additional special measures are necessary to prevent the spread of COVID-19.

Nature of Requirement: Recipients providing PSH must serve individuals and families where one member of the household has a qualifying disability (for dedicated projects and DedicatedPLUS projects that individual must be the head of household). Further, the recipient must document a qualifying disability of one of the household members. When documentation of disability is the intake worker's observation, the regulation requires the recipient to obtain additional confirming evidence within 45 days.

Granted By: John Gibbs, Acting Assistant Secretary for Community Planning and Development.

Date Granted: September 30, 2020.

Reason Waived: On March 31, 2020 HUD waived the requirement to obtain additional evidence within 45 days and instead allowed recipients up to 6-months from the date of application for assistance to confirm intake staff-recorded observations of disability with other evidence because recipients were reporting difficulty obtaining third-party documentation of a disability in the middle of a pandemic, impacting their ability to house potential program participants quickly. However, recipients are still reporting difficulty obtaining third-party documentation because of the continuing pandemic, so HUD is now entirely waiving the requirement at 24 CFR 578.103(a)(4)(i)(B) that recipients obtain additional evidence to verify intake staff-recorded observations of disability to allow recipients' until the end of the pandemic. This will permit intake staff to house people quickly by relying on intake-staff recorded observation of a disability.

Contact: Norm Suchar, Director, Office of Special Needs Assistance Programs, Office of Community Planning and Development, Department of Housing and Urban Development, 451 Seventh Street SW, Room 7262, Washington, DC 20410, telephone (202) 708-4300.

• Regulation: 24 CFR 578.103(a)(7)(iv).

Project/Activity: The waiver of the requirement at 24 CFR 578.103(a)(7)(iv) that the recipient or subrecipient may only rely on program participant self-certification of income if the other permitted types of documentation are unobtainable when conducting the initial or subsequent rent or occupancy charge calculations is in effect from the date of this memorandum until December 31, 2020. During this time, 24 CFR 578.103(a)(7)(iv) is waived to the extent necessary to allow recipients or subrecipients to document annual income with the written certification by the program participant of the amount of income that the program participant is reasonably expected to receive over the 3-month period following the evaluation, even if source documents and third-party 4 verification, are obtainable.

Nature of Requirement: 24 CFR 578.103(a)(7) requires the recipient or subrecipient to keep records of the program participant's income and the back-up documentation they relied on to determine income. The regulation establishes an order of preference for the type of documentation that recipients can rely upon.

Granted By: John Gibbs, Acting Assistant Secretary for Community Planning and Development.

Date Granted: September 30, 2020.

Reason Waived: HUD understands that documentation may be difficult to obtain as a result of COVID-19 pandemic; therefore, waiving the requirement that source documents and third-party documentation be unobtainable in order for recipients or subrecipients to rely on a program participant's own certification of their income will help recipients and subrecipients house program participants more quickly and determine the appropriate rent contribution or occupancy charge. Moving people experiencing homelessness more quickly into housing enables social distancing and helps prevent the spread of COVID-19.

Contact: Norm Suchar, Director, Office of Special Needs Assistance Programs, Office of Community Planning and Development, Department of Housing and Urban Development, 451 Seventh Street SW, Room 7262, Washington, DC 20410, telephone (202) 708-4300.

II. Regulatory Waivers Granted by the Office of Housing—Federal Housing Administration (FHA)

For further information about the following regulatory waivers, please see the name of the contact person that immediately follows the description of the waiver granted.

• Regulation: 24 CFR 200.73 (c).

Project/Activity: Pendleton III Apartments, Cincinnati, Ohio, Project No., one listed

Nature of Requirement: HUD's regulation at 24 CFR 200.73 (c) requiring that “not less than five rental dwelling units [of an FHA insured multifamily housing project] shall be on one site. Section 3.1.CC of the 2016 MAP Guide permits a project with two or more non-contiguous parcels of land when the parcels comprise one marketable, manageable real estate entity. Prudential Huntoon Paige Associates, LLC has applied for mortgage insurance under the Section 221(d)(4) program for Pendleton III Apartments. The proposal is to combine eighteen separate, scattered site, Section 8 assisted properties known as Pendleton III into a single manageable property consisting of 78 total affordable units. The property consists of eighteen sites scattered across a half mile radius area of downtown Cincinnati. Ten of the eighteen sites have fewer than 5 units.

Granted by: Dana T. Wade, Assistant Secretary for Housing-Federal Housing Commissioner.

Date Granted: September 18, 2020.

Reason Waived: The waiver will meet HUD's goal of preserving and maintaining affordable rental housing for low income families. The project is a low risk to the Department due to its continuing availability of Section 8 rental assistance for most units.

Contact: Patricia M. Burke, Director, Office of Multifamily Production, HTD, Office of Housing, Department of Housing and Urban Development, 451 Seventh Street SW, Washington, DC 20410, telephone (202) 402-5693.

• Regulation: 24 CFR 242.58(b)(ii) and 24 CFR 242.58(b)(iv).

Project/Activity: Englewood Hospital and Medical Center, Englewood, New Jersey

Nature of Requirement: 24 CFR 242.58(b)(ii) and (b)(iv) require the submission of quarterly financial statements to HUD within 40 days after the end of the Borrower's fiscal quarter, and requires the submission of annual audited financial statements to HUD within 120 days after the end of the Borrower's fiscal year.

Granted By: Dana T. Wade, Assistant Secretary for Housing—Federal Housing Commissioner.

Date Granted: September 18, 2020.

Reason Waived: The Borrower required the extension to allow for additional time to finalize its financial reports at the end of each reporting period.

Contact: Paul Giaudrone, Underwriting Director, Office of Hospital Facilities, Office of Healthcare Programs, Office of Housing, Department of Housing and Urban Development, 409 3rd Street SW, Room Washington DC 20024, telephone (202) 402-5684.

• Regulation: 24 CFR 266.410(e).

Project/Activity: Colorado Housing and Finance Authority (CHFA), no project name or number listed.

Nature of Requirement: The 24 CFR 266.410(e), which requires mortgages insured under the 542(c) Housing Finance Agency Risk Sharing Program to be fully amortized over the term of the mortgage. The waiver would permit CHFA to use balloon loans that would have a minimum term of 17 years and a maximum amortization period of 40 years for the projects identified in the “Multifamily Pipeline Projects”.

Granted by: Dana T. Wade, Assistant Secretary for Housing-Federal Housing Commissioner.

Date Granted: July 28, 2020.

Reason Waived: The waiver was granted to allow Colorado Housing and Finance Authority's (CHFA) clients additional financing options to their customers and to align CHFA business practices with industry standards, thus furthering the creation of a preservation of affordable housing throughout Colorado.

The regulatory waiver is subject to the following conditions:

1. The waiver is limited to nine (9) transactions and expires on July 31, 2021.

2. Colorado Housing and Finance Authority must elect to take 50 percent or more of the risk of loss on all transactions;

3. Mortgages made under this waiver may have amortization periods of up to 40 years, but with a minimum term of 17 years;

4. All other requirements of 24 CFR 266.410—Mortgage Provision remain applicable. The waiver is applicable only to loans made under Colorado Housing and Finance Authority's Risk Sharing Agreement;

5. In accordance with 24 CFR 266.200(d), the mortgage may not exceed an amount supportable by the lower of the Section 8 or comparable unassisted rents;

6. Projects must comply with Davis-Bacon labor standards in accordance with 24 CFR 266.225;

7. Colorado Housing and Finance Authority must comply with regulations stated in 24 CFR 266.210 for insured advances or insurance upon completion transactions;

8. The loans exceeding $50 million require a separate waiver request;

9. Occupancy is no less than 93 percent for previous 12 months of the HFA loan to be refinanced;

10. No defaults in the last 12 months of the HFA loan to be refinanced;

11. A 20-year affordable housing deed restriction placed on title that conforms to the Section 542(c) statutory definition;

12. A Property Capital Needs Assessment (PCNA) must be performed and funds escrowed for all necessary repairs, and reserves funded for future capital needs; and

13. For projects subsidized by Section 8 Housing Assistance Payment (HAP) contracts:

i. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time Colorado Housing and Finance Authority determines that a project's excess funds (surplus cash) after project operations, reserve requirements and permitted distributions are met, Colorado Housing and Finance Authority must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Contact: Patricia M. Burke, Director, Office of Multifamily Production, HTD, Office of Housing, Department of Housing and Urban Development, 451 Seventh Street SW, Washington, DC 20410, telephone (202) 402-5693.

III. Regulatory Waivers Granted by the Office of Public and Indian Housing

For further information about the following regulatory waivers, please see the name of the contact person that immediately follows the description of the waiver granted.

• Regulation: 24 CFR 985.105(d).

Project/Activity: Greenfield Housing Authority requested to change their troubled Section Eight Management Assessment Program (SEMAP) rating.

Nature of Requirement: 24 CFR 985.105(d) requires that the Department of Housing and Urban Development (HUD) conduct an on-site confirmatory review of a Public Housing Agency's (PHA's) performance before changing any annual overall performance rating from troubled to standard or high performer.

Granted By: R. Hunter Kurtz, Assistant Secretary, Public and Indian Housing.

Date Granted: September 24, 2020.

Reason Waived: PHAs rely on their SEMAP designation to indicate to the public and other stakeholders the health and performance of their Housing Choice Voucher (HCV) program. Moreover, in accordance with 24 CFR 985.107(f), HUD shall change a PHA's overall performance rating from troubled to standard or high performer if HUD determines that a change in the rating is warranted because of improved PHA performance and an improved SEMAP score. The PHA believed it would receive a higher rating and be removed from the designation of SEMAP Troubled if HUD's review were done remotely. Therefore, in lieu of the on-site confirmatory review and in accordance with HUD's modified operational procedures in response to the COVID-19 pandemic, HUD determined good cause to waive 24 CFR 985.105(d) and permit the field office to perform a remote SEMAP quality control review of the documentation necessary to confirm the accuracy of the PHA's SEMAP certification.

Contact: Danielle Bastarache, Deputy Assistant Secretary, Office of Public Housing and Voucher Programs, Office of Public and Indian Housing, Department of Housing and Urban Development, 451 Seventh Street SW, Room 4202, Washington, DC 20410, telephone (202) 402-5264.

• Regulation: 24 CFR 982.517; 24 CFR 983.301(f)(2)(ii).

Project/Activity: Housing Authority of the City of Annapolis requested a project-specific utility allowance for a Project Based Voucher (PBV) project.

Nature of Requirement: For the Housing Choice Voucher (HCV) program, 24 CFR 982.517 requires that a PHA maintain a utility allowance schedule for all tenant-paid utilities, and the utility allowance schedule must be determine based on the typical cost of utilities and services paid by energy-conserving households that occupy units of similar size and type in the same locality. For the PBV program, 24 CFR 983.301(f)(2)(ii) requires that PHAs may not establish or apply different utility allowance amounts for the PBV program, and that the same PHA utility allowance schedule applies to both the tenant-based and PBV programs.

Granted By: R. Hunter Kurtz, Assistant Secretary, Public and Indian Housing.

Date Granted: September 24, 2020.

Reason Waived: The PHA requested a waiver to establish a site-specific utility allowance for a PBV project and provided justification for the request. The PHA submitted an analysis of utility rates for the community and consumption data of project residents. Due to the energy efficient upgrades at the project, the community consumption estimates are significantly higher than the consumption expected at the site. Thus, the PHA demonstrated good cause that the utility allowance provided under the HCV program would discourage conservation and ultimately lead to inefficient use of HAP funds at the PBV project. Thus, pursuant to the waiver authority provided at 24 CFR 5.110, HUD determined that there was good cause to waive 24 CFR 983.301(f)(2)(ii) and 24 CFR 982.5 17.

Contact: Danielle Bastarache, Deputy Assistant Secretary, Office of Public Housing and Voucher Programs, Office of Public and Indian Housing, Department of Housing and Urban Development, 451 Seventh Street SW, Room 4202, Washington, DC 20410, telephone (202) 402-5264.

• Regulation: 24 CFR 982.517; 24 CFR 983.301(f)(2)(ii).

Project/Activity: Housing Authority of the City of Austin requested a project-specific utility allowance for a Project Based Voucher (PBV) project.

Nature of Requirement: For the Housing Choice Voucher (HCV) program, 24 CFR 982.517 requires that a PHA maintain a utility allowance schedule for all tenant-paid utilities, and the utility allowance schedule must be determine based on the typical cost of utilities and services paid by energy-conserving households that occupy units of similar size and type in the same locality. For the Project Based Voucher (PBV) program, 24 CFR 983.301(f)(2)(ii) requires that PHAs may not establish or apply different utility allowance amounts for the PBV program, and that the same PHA utility allowance schedule applies to both the tenant-based and PBV programs.

Granted By: R. Hunter Kurtz, Assistant Secretary, Public and Indian Housing.

Date Granted: September 24, 2020.

Reason Waived: The PHA requested a waiver to establish a site-specific utility allowance for a PBV project and provided justification for the request. The PHA submitted an analysis of utility rates for the community and consumption data of project residents. Due to the energy efficient upgrades at the project, the community consumption estimates are significantly higher than the consumption expected at the site. Thus, the PHA demonstrated good cause that the utility allowance provided under the HCV program would discourage conservation and ultimately lead to inefficient use of HAP funds at the PBV project. Thus, pursuant to the waiver authority provided at 24 CFR 5.110, HUD determined that there was good cause to waive 24 CFR 983.301(f)(2)(ii) and 24 CFR 982.5 17.

Contact: Danielle Bastarache, Deputy Assistant Secretary, Office of Public Housing and Voucher Programs, Office of Public and Indian Housing, Department of Housing and Urban Development, 451 Seventh Street SW, Room 4202, Washington, DC 20410, telephone (202) 402-5264.

• Regulation: 24 CFR 985.101(a).

Project/Activity: Edinburg Housing Authority requested for HUD to accept a late submission for its Section Eight Management Assessment Program (SEMAP) certification and HUD issue a new SEMAP score.

Nature of Requirement: 24 CFR 985.101(a) requires a Public Housing Agency (PHA) to submit the HUD-required SEMAP certification form within 60 calendar days after the end of its fiscal year. Failure of a PHA submitting its SEMAP certification by the set deadline results in an overall performance rating of troubled. The PHA's SEMAP certification is subject to HUD verification by an on-site confirmatory review.

Granted By: R. Hunter Kurtz, Assistant Secretary, Public and Indian Housing.

Date Granted: September 24, 2020.

Reason Waived: In response to the COVID-19 pandemic, in Section 11.b. of Notice PIH 2020-13, HUD notified PHAs administering the Housing Choice Voucher (HCV) program that have a SEMAP score pending as of the date of the notice, and for any PHA with a fiscal year ending on or before December 31, 2020, HUD would not issue a new SEMAP score and would carry forward the most recent SEMAP score on record unless the PHA requests a new SEMAP. The PHA requested that HUD accept a late submission for the SEMAP certification, and a new score be issued. The PHA received an overall rating score as high and standard performer on its two prior SEMAP certifications in 2018 and 2019, respectively. Due to these circumstances and pursuant to the waiver authority provided at 24 CFR 5.1 10, HUD determined there was good cause to waive 24 CFR 985.101(a) to permit the PHA to submit its SEMAP certification after the deadline for its fiscal year ending March 31, 2020. The PHA was advised to request a new SEMAP score through HUD's local field office.

Contact: Danielle Bastarache, Deputy Assistant Secretary, Office of Public Housing and Voucher Programs, Office of Public and Indian Housing, Department of Housing and Urban Development, 451 Seventh Street SW, Room 4202, Washington, DC 20410, telephone (202) 402-5264.

HUD's Summary of CARES Act Notices Providing Waivers 3/31/20 to 9/30/20

Authority: Coronavirus Aid, Relief, and Economic Security Act (CARES Act) and regulatory waiver authority is also provided by 24 CFR 5.110 and 91.600.

Office of Community Planning and Development (CPD)

1. CPD Memo: Availability of Waivers of CPD Grant Program and Consolidated Plan Requirements to Prevent the Spread of COVID-19 and Mitigate Economic Impacts Caused by COVID-19 for CoC, ESG, and HOPWA.

Date Issued: March 31, 2020

Purpose: This memorandum explains the availability of waivers of certain regulatory requirements associated with several CPD grant programs (HOPWA, ESG, CoC) to prevent the spread of COVID-19 and to facilitate assistance to eligible communities and households economically impacted by COVID-19.

2. CPD Memo: CARES Act Flexibilities for ESG and HOPWA Funds Used to Support Coronavirus Response and Plan Amendment Waiver.

Date Issued: May 4, 2020

Purpose: Announced the allocations and provides guidance regarding the first $3 billion in HUD CARES Act funding, including $1 billion for ESG grantees, $2 billion for Community Development Block Grant (CDBG) grantees, and $53.7 million for Housing Opportunities for Persons With AIDS (HOPWA) grantees.

3. CPD Memo: Availability of Additional Waivers for CPD Grant Programs to Prevent the Spread of COVID-19 and Mitigate Economic Impacts Caused by COVID-19.

Date Issued: May 22, 2020

Purpose: This memorandum explains the availability of waivers of certain regulatory requirements and one NOFA requirement associated with several CPD grant programs to prevent the spread of COVID-19 and to facilitate assistance to eligible communities and households economically impacted by COVID-19. This memorandum covers program-specific waivers for the following CPD programs: Housing Opportunities for Persons with AIDS (HOPWA); Continuum of Care (CoC); Youth Homelessness Demonstration Program (YHDP); and Emergency Solutions Grants Program. This memorandum also announces a simplified notification process for recipients of these programs to use this waiver flexibility to expedite the delivery of assistance.

4. Notice CPD-20-05: CARES Act Implementation Instructions and Related Flexibilities for the HOPWA Program: HOPWA APR/CAPER Submission.

Date Issued: May 8, 2020

Purpose: This Notice provides instructions for implementing the Coronavirus Aid, Relief, and Economic Security (CARES) Act, Public Law 116-136, provisions to the HOPWA program, and provides additional information for HOPWA grantees and project sponsors related to coronavirus disease 2019 (COVID-19) response.

5. Notice CPD 20-07: Guidance on conducting environmental reviews pursuant to 24 CFR part 58 for activities undertaken in response to the public health emergency as a result of COVID-19.

Date Issued: August 6, 2020

Purpose: The purpose of this Notice is to provide guidance on environmental review processing for activities needed to respond to the public health emergency as a result of COVID-19. This Notice describes:

Types of activities that meet the environmental review exemption at 24 CFR 58.34(a)(10) for improvements necessary to respond to an imminent threat to public safety; The process for using HUD's expedited public notice and condensed comment periods for environmental reviews during a Presidentially-declared disaster or a locally declared emergency; a Table of Activities that lists examples of the types of activities that are typically needed to address a public health emergency organized by the level of environmental review required; and, prior HUD guidance on environmental review processing for activities undertaken in response to a Presidentially-declared disaster or local emergency focused on activities related to clearing debris, protecting buildings from further damage, and protecting the public from damaged structures.

6. Notice CPD-20-08: Waivers and Alternative Requirements for the ESG Program Under the CARES Act.

Date Issue: September 1, 2020

Purpose: This Notice announces the allocation formula, amounts, and requirements for the additional $3.96 billion in funding provided for the Emergency Solutions Grants Program (ESG) under the Coronavirus Aid, Relief, and Economic Security Act (CARES Act). These ESG-CV funds must be used to prevent, prepare for, and respond to coronavirus, among individuals and families who are homeless or receiving homeless assistance and to support additional homeless assistance and homelessness prevention activities to mitigate the impacts created by coronavirus.

7. CPD Memo: Availability of Additional Waivers for CPD Grant Programs to Prevent the Spread of COVID-19 and Mitigate Economic Impacts Caused by COVID-19.

Date Issued: September 30, 2020

Purpose: Waiver regarding the homeless definition—Temporary Stays in Institutions of 90 Days or Less. Paragraph (1)(iii) of the homeless definition in 24 CFR 576.2 is waived to the extent that an individual may qualify as homeless so long as he or she is exiting an institution where they resided for 120 days or less and resided in an emergency shelter or place not meant for human habitation immediately before entering that institution. The waiver is in effect until March 31, 2021.

Office of Public and Indian Housing

1. DLL-2020-05: Re-verification of employment, Exterior-Only and Desktop-Only Appraisal Scope of Work Options and Tax Transcripts for the Section 184 Indian Home Loan and Section 184A Native Hawaiian Housing Loan Guarantee Programs Impacted by COVID-19.

Date Issued: 4/9/20

Purpose: The purpose of this Dear Lender Letter is to inform lenders and appraisers of HUD's authorization of the temporary modification of requirements for re-verification of employment, appraisals, and IRS tax transcripts.

2. PIH Notice 2020-05: COVID-19 Statutory and Regulatory Waivers for the Public Housing, Housing Choice Voucher, Indian Housing Block Grant and Indian Community Development Block Grant programs, Suspension of Public Housing Assessment System and Section Eight Management Assessment Program.

Date Issued: 4/10/20

Purpose: HUD waived and established alternative requirements for numerous statutory and regulatory requirements for the Public Housing program, Housing Choice Voucher (HCV) program, Indian Housing Block Grant (IHBG) program, and Indian Community Development Block Grant (ICDBG) program. This notice also provides information on additional actions HUD is taking, including the temporary suspension of the Public Housing Assessment System (PHAS) and the Section Eight Management Assessment Program (SEMAP). The waivers provide administrative flexibilities and relief to PHAs, Indian tribes, and TDHEs in response to the COVID-19 national emergency.

3. PIH Notice 2020-07: Implementation of Supplemental Guidance to the Federal Fiscal Year 2020 Operating Fund Appropriations:

Date Issued: 4/28/20

Purpose: This Notice provides guidance on the allocation and eligible uses of the Supplemental Public Housing Operating funding provided pursuant to the CARES Act (Pub. L. 116-136), as well as the additional flexibilities provided pursuant to the CARES Act to use previously appropriated Capital and Operating Funds to enable PHAs to prevent, prepare for, and respond to coronavirus. Additional waivers included in this notice include 24 CFR 990.210, 24 CFR 990.280(b), 24 CFR 990.280(b)(5) and temporarily resetting cost limitation established in 24 CFR 905.314(h).

4. DLL-20-06: Section 184 Indian Home Loan Guarantee program (Section 184) and Section 184A Native Hawaiian Housing Loan Guarantee program (Section 184A) loss mitigation options and clarification of eviction moratorium under Section 4024 of the Coronavirus Aid, Relief, and Economic Security Act (CARES Act); extension of foreclosure moratorium under the CARES Act; and extension of loan processing related flexibilities.

Date Issued: 5/19/20

Purpose: Extends the foreclosure and related evictions moratoriums and the loan processing flexibilities that expired on May 20, 2020 through June 30, 2020.

5. DLL-20-08: Section 184 Indian Home Loan Guarantee program (Section 184) and Section 184A Native Hawaiian Housing Loan Guarantee program (Section 184A) extension of foreclosure and related evictions moratorium and loan processing flexibilities in connection with the Presidentially Declared COVID-19 National Emergency.

Date Issued: 6/29/20

Purpose: Extends the foreclosure and related evictions moratoriums and the loan processing flexibilities through August 31, 2020.

6. PIH Notice 2020-13: COVID-19 Statutory and Regulatory Waivers and Alternative Requirements for the Public Housing, Housing Choice Voucher, Indian Housing Block Grant and Indian Community Development Block Grant programs, Suspension of Public Housing Assessment System and Section Eight Management Assessment Program, Revision 1.

Date Issued: 7/2/20

Purpose: In this notice, HUD restates the waivers and alternative requirements established previously in Notice PIH 2020-05, provides additional waivers and alternative requirements, extends the periods of availability for previously established waivers and alternative requirements, and issues technical amendments to several of the previously established waivers and alternative requirements. This Notice also carries forward information on previously specified HUD actions, such as the temporary suspension of the Public Housing Assessment System (PHAS) and the Section Eight Management Assessment Program (SEMAP).

7. PIH Notice 2020-20: Section 8 Moderate Rehabilitation Program—CARES Act Supplemental HAP Funding Allocation and COVID-19 Waivers and Alternative Requirements.

Date Issued: 8/26/20

Purpose: This notice implements funding provisions for the Section 8 Moderate Rehabilitation (Mod Rehab) Program under the CARES Act (Pub. L. 116-36). In addition, pursuant to the waiver authority provided under the CARES Act, through this notice HUD is waiving and establishing alternative requirements for numerous statutory and regulatory requirements for the Section 8 Mod Rehab program to expedite or facilitate the use of these amounts to prevent, prepare for, and respond to coronavirus. HUD strongly encourages PHAs to utilize any and all waivers and alternative requirements as necessary to keep the Section 8 Mod Rehab program operational, to the extent practicable, during the period the program is impacted by coronavirus. This notice applies solely to the Mod Rehab Program administered by the Office of Housing Voucher Programs, Office of Public and Indian Housing (PIH). It does not apply to the Section 8 Moderate Rehabilitation Single Room Occupancy (SRO) Program administered by the Office of Community Planning and Development in accordance with 24 CFR part 882, subpart H.

8. DLL-2020-10: Section 184 Indian Home Loan Guarantee program (Section 184) and Section 184A Native Hawaiian Housing Loan Guarantee program (Section 184A) extension of foreclosure and eviction moratorium and loan processing flexibilities in connection with the Presidentially Declared COVID-19 National Emergency.

Date Issued: 8/28/20

Purpose: Extends the foreclosure and related evictions moratoriums and the loan processing flexibilities through October 31, 2020.

9. PIH Notice 2020-22: CARES Act Implementation for the Mainstream Voucher Program—Non-Competitive Opportunity for Additional Vouchers Authorized by the CARES Act, Temporary Waivers and Alternative Requirements, and Modified 2020 Housing Assistance Payment (HAP) Renewal Calculation.

Date Issued: 9/8/20

Purpose: This notice provides additional waivers and alternative requirements that apply only to Mainstream vouchers and may be applied in addition to the waivers and alternative requirements provided in PIH Notice 2020-13; additional Mainstream Voucher Temporary Waivers and Alternative Requirements can be found in Section 3 of this Notice. The Secretary has determined that these waivers and alternative requirements are necessary for the safe and effective administration of the HCV program, consistent with the purposes described under the CARES Act, to prevent, prepare for, and respond to COVID-19.

10. PIH Notice 2020-24: Extension of Period of Availability for CARES Act Supplemental Public Housing and Housing Choice Voucher Funds, Guidance on CARES Act Financial Reporting Requirements (FDS and Quarterly Reporting), and Other CARES Act Provisions.

Date Issued: 9/14/20

Purpose: The Notice extends the deadline for PHAs to expend the Supplemental Public Housing Operating Funds; The Notice extends the deadline, for PHAs to expend the CARES Act HCV Supplemental HAP and Administrative Fees (including such funds provided for the Mainstream Program), and the CARES Act Moderate Rehabilitation Program Supplemental HAP funds; The Notice extends the waiver authority of central office cost center (COCC) fees in excess of the safe harbor amounts to the fees charged to the CARES Act supplemental HCV and Mainstream Administrative Fees and provides further implementation guidance for PHAs that used CARES Act supplemental Operating Funds or HCV and Mainstream Administrative Fees under this waiver authority; HUD has extended the unaudited submission due date for PHAs with a 6/30/2020 FYE by 60 days, from 08/31/2020 to 10/30/2020; The Notice provides financial reporting requirements and sub-regulation guidance on CARES Act supplemental funds (Public Housing Operating Fund, HCV, Mainstream Voucher and Moderate Rehabilitation programs) for PHA year-end Financial Data Schedule (FDS) reporting; and the Notice provides guidance on the implementation of CARES Act supplemental funds quarterly reporting requirements. FDS and CARES Act quarterly reporting for Moving to Work (MTW) PHAs and the COCC is also provided in this Notice.

11. PIH Notice 2020-27: Waiver of Undisbursed Funds Factor (UDFF) Requirements Under the Indian Housing Block Grant Program for Fiscal Year 2021.

Date Issued: 9/30/20

Purpose: Due to the pandemic, IHBG recipients are facing significant impediments to administering their IHBG programs. Given significant impediments, HUD has determined that a waiver of the UDFF under 24 CFR 1000.342 for the FY 2021 IHBG formula allocations is necessary to expedite and facilitate the use of IHBG-CARES funds. The waiver provided in this Notice only affects the FY 2021 IHBG formula allocations—and does not apply to IHBG formula allocations in years beyond FY 2021.

12. DLL-2020-12: Section 184 Indian Home Loan Guarantee Program (Section 184) and Section 184A Native Hawaiian Housing Loan Guarantee Program (Section 184A) Extension of Re-verification of Employment and Tax Transcript Flexibilities and Updated Appraisal Flexibilities in Connection with the COVID-19 National Emergency.

Date Issued: 10/30/20

Purpose: Section 184 Indian Home Loan Guarantee Program (Section 184) and Section 184A Native Hawaiian Housing Loan Guarantee Program (Section 184A) Extension of Re-verification of Employment and Tax Transcript Flexibilities and Updated Appraisal Flexibilities in Connection with the COVID-19 National Emergency.

13. PIH Notice 2020-33: COVID-19 Statutory and Regulatory Waivers and Alternative Requirements for the Public Housing, Housing Choice Voucher (including Mainstream and Mod Rehab), Indian Housing Block Grant and Indian Community Development Block Grant programs, Suspension of Public Housing Assessment System and Section Eight Management Assessment Program, Revision 2.

Date Issued: 11/30/20

Purpose: This Notice restates the waivers and alternative requirements included previously in Notice PIH 2020-13, carries forward information on previously specified HUD actions, adds new waivers and alternative requirements, and incorporates the waivers and alternative requirements for Mainstream vouchers and the Mod Rehab Program. In addition, this Notice extends the period of availability of certain waivers, such as those related to Income Verification and Annual Examinations, until June 30, 2021.

[FR Doc. 2021-06920 Filed 4-2-21; 8:45 am]

BILLING CODE 4210-67-P